DEPARTMENT OF DEFENSE

Office of the Secretary

32 CFR Part 233

[DOD-2008-OS-0049]

RIN 0790-AI27

Federal Voting Assistance Program

AGENCY: Office of the Under Secretary of Defense for Personnel and Readiness/Federal Voting Assistance Program, DoD.

ACTION: Interim final rule

SUMMARY: This rule concerns the Federal Voting Assistance Program (FVAP). It provides direction and guidance to the Department of Defense and other Federal departments and agencies in establishing voting assistance programs for citizens covered by the Uniformed and Overseas Citizens Absentee Voting Act (UOCAVA) as modified by the Military and Overseas Voter Empowerment Act. The 2012 election cycle starts with the January 10, 2012 New Hampshire Presidential Preference Primary and continues through the November 6, 2012 General Election. This 2012 election schedule requires that the policies and procedures set forth in the rule must be in place to ensure that citizens voting under UOCAVA are fully guided and supported through established voting assistance programs within the Federal departments and agencies. Therefore, this rule is being established as an interim final rule to allow promulgation of appropriate direction and guidance prior to completion of a public comment period.

DATES: Effective date: September 18, 2012.

Comment date: Comments must be received by November 19, 2012.

ADDRESSES: You may submit comments, identified by docket number and or Regulatory Information Number (RIN) number and title, by any of the following methods:

• Federal Rulemaking Portal: http://www.regulations.gov. Follow the instructions for submitting comments.

• Mail: Federal Docket Management System Office, 4800 Mark Center Drive, 2nd floor, East Tower, Suite 02G09, Alexandria, VA 22350-3100.

Instructions: All submissions received must include the agency name and docket number or RIN for this Federal Register document. The general policy for comments and other submissions from members of the public is to make these submissions available for public viewing on the Internet at http://www.regulations.gov as they are received without change, including any personal identifiers or contact information.

FOR FURTHER INFORMATION CONTACT: John B. Godley, (703) 588-8108.

SUPPLEMENTARY INFORMATION:

Background

Part 233 establishes policy and assigns responsibilities for the Federal Voting Assistance Program. It establishes policy and assigns responsibilities for the development and implementation of installation voter assistance (IVA) offices. This part establishes policy for the development and implementation, jointly with each State, of procedures for persons to apply to register to vote at recruitment offices of the Military Services.

Executive Order 12866, “Regulatory Planning and Review” and Executive Order 13563, “Improving Regulation and Regulatory Review”

It has been certified that 32 CFR part 233 does not:

(1) Have an annual effect on the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in these Executive Orders.

Sec. 202, Public Law 104-4, “Unfunded Mandates Reform Act”

It has been certified that 32 CFR part 233 does not contain a Federal mandate that may result in expenditure by State, local and tribal governments, in aggregate, or by the private sector, of $100 million or more in any one year.

Public Law 96-354, “Regulatory Flexibility Act” (5 U.S.C. 601)

It has been certified that 32 CFR part 233 is not subject to the Regulatory Flexibility Act (5 U.S.C. 601) because it would not, if promulgated, have a significant economic impact on a substantial number of small entities.

Public Law 96-511, “Paperwork Reduction Act” (44 U.S.C. Chapter 35)

It has been certified that 32 CFR part 233 does impose reporting or recordkeeping requirements under the Paperwork Reduction Act of 1995. Two surveys are conducted after the election cycle. OMB has approved these surveys under the following OMB Control Numbers: 0704-0125, “Post-Election Survey of Local Election Officials,” and 0704-0476, “Post-Election Survey of Overseas Citizens.” A 60-day notice requesting comments on the revised collections will be published in January 2012 and the revised collections should be ready for submission to OMB in the May/June 2012 timeframe.

Executive Order 13132, “Federalism”

It has been certified that 32 CFR part 233 does not have federalism implications, as set forth in Executive Order 13132. This rule does not have substantial direct effects on:

(1) The States;

(2) The relationship between the National Government and the States; or

(3) The distribution of power and responsibilities among the various levels of Government.

List of Subjects in 32 CFR Part 233

Voting rights, civil rights, elections, voter registration, voting.

Accordingly 32 CFR part 233 is added to read as follows:

PART 233—FEDERAL VOTING ASSISTANCE PROGRAM (FVAP)

Sec.
233.1 Purpose
233.2 Applicability
233.3 Definitions
233.4 Policy
233.5 Responsibilities
233.6 Procedures

Authority: EO 12642; 10 U.S.C. 1566a; 42 U.S.C 1973gg-5; 42 U.S.C. 1973ff—1973ff-6

§ 233.1 Purpose.

This part:

(a) Establishes policy and assigns responsibilities for the FVAP in accordance with Executive Order 12642 and the Uniformed and Overseas Citizens Absentee Voting Act (UOCAVA), 42 U.S.C. 1973ff-1973ff-6.

(b) Establishes policy and assigns responsibilities for the development and implementation of installation voter assistance (IVA) offices in accordance with 10 U.S.C. 1566a.

(c) Establishes policy and assigns responsibilities for the development and implementation, jointly with each State, of procedures for persons to apply to register to vote at recruitment offices of the Military Services in accordance with 42 U.S.C. 1973gg-5.

§ 233.2 Applicability.

This part applies to:

(a) The Office of the Secretary of Defense, the Military Departments (including the Coast Guard at all times, including when it is a Service in the Department of Homeland Security by agreement with that Department), the Office of the Chairman of the Joint Chiefs of Staff and the Joint Staff, the Combatant Commands, the Office of the Inspector General of the Department of Defense (IG DoD), the Defense Agencies, the DoD Field Activities, and all other organizational entities within the DoD (hereinafter referred to collectively as the “DoD Components”).

(b) The Commissioned Corps of the Public Health Service (PHS), under agreement with the Department of Health and Human Services, and the Commissioned Corps of the National Oceanic and Atmospheric Administration (NOAA), under agreement with the Department of Commerce. The term “uniformed services” refers to the Army, the Navy, the Air Force, the Marine Corps, the Coast Guard, and their Reserve Components, as well as the Commissioned Corps of the PHS and the NOAA.

(c) Other Federal Executive departments and agencies with employees assigned outside the United States that provide assistance to the FVAP under 42 U.S.C. 1973ff(c). Recommended procedures for these departments and agencies are contained in § 233.6(c) of this part.

§ 233.3 Definitions.

Terms used in this part are defined in Joint Publication 1-02 (available at http://www.dtic.mil/doctrine/dod_dictionary/) and this section. These terms and their definitions are for the purpose of this part.

Eligible voter. Any of the following:

(1) Absent uniformed services voter:

(i) A member of a uniformed service on active duty who, by reason of such active duty, is absent from the place of residence where the member is otherwise qualified to vote.

(ii) A member of the merchant marine who, by reason of service in the merchant marine, is absent from the place of residence where the member is otherwise qualified to vote.

(iii) A spouse or dependent of a member referred to in the first two sentences of this definition who, by reason of the active duty or service of the member, is absent from the place of residence where the spouse or dependent is otherwise qualified to vote.

(2) Overseas voter:

(i) An absent uniformed services voter who, by reason of active duty or service, is absent from the United States on the date of the election involved;

(ii) A person who resides outside of the United States and is qualified to vote in the last place in which the person was domiciled before leaving the United States; or

(iii) A person who resides outside of the United States and (but for such residence) would be qualified to vote in the last place in which the person was domiciled before leaving the United States.

Federal office. The offices of President or Vice President; Presidential Elector; or of Senator or Representative in; or Delegate or Resident Commissioner to Congress.

Installation voter assistance (IVA) offices. The office designated by the installation commander to provide voter assistance to military personnel, voting-age military dependents, Government employees, contractors, and other civilian U.S. citizens with access to the installation. IVA offices also serve as voter registration agencies pursuant to 42 U.S.C. 1973gg-5(a)(2).

Installation voter assistance officer (IVAO). An individual responsible for voting assistance coordination at the installation level.

Metrics. A systematic means of measuring essential management information for reporting, control, and process improvement.

Recruitment offices of the Military Services. Any office of a military service open to the public and engaged in the recruitment of persons for appointment or enlistment in an Active Component of the Military Services. This does not include Army National Guard and Air National Guard recruiting offices.

Senior service voting representative (SSVR). A uniformed member at the 0-7 grade, or higher, or a member of the Senior Executive Service responsible for implementing the FVAP in his or her respective component.

Service voting action officer (SVAO). An individual at a uniformed service headquarters level responsible for voting assistance operations for his or her respective component.

State. As defined in 42 U.S.C. 1973ff-6.

State election. Any non-Federal election held solely, or in part, for selecting, nominating, or electing any candidate for any State office, such as Governor, Lieutenant Governor, State Attorney General, or State Legislator, or on issues of Statewide interest.

Uniformed services. As defined in 42 U.S.C. 1973ff-6(7).

Unit voting assistance officer (UVAO). An individual responsible for voting assistance at the unit level.

Voter registration agency. An office designated pursuant to 42 U.S.C. 1973gg-5 to perform voter registration activities. Pursuant to 42 U.S.C. 1973gg-5(c), a recruitment office of the Military Services is considered to be a voter registration agency. All IVA offices are also designated as voter registration agencies pursuant to 42 U.S.C. 1973gg-5(a)(2).

§ 233.4 Policy.

It is DoD policy that:

(a) The FVAP shall ensure that eligible voters receive, pursuant to 42 U.S.C. 1973ff(b)(5), information about registration and voting procedures and materials pertaining to scheduled elections, including dates, offices, constitutional amendments, and other ballot proposals.

(b) The right of U.S. citizens to vote is a fundamental right that is afforded protection by the U.S. Constitution. Every eligible voter shall:

(1) Be given an opportunity to register and vote in any election for which he or she is eligible.

(2) Be able to vote in person or by absentee.

(c) All persons assisting in the voting process shall take all necessary steps to prevent discrimination, fraud, intimidation or coercion, and unfair registration and voting assistance procedures. This includes, but is not limited to, preventing actions such as:

(1) Using military authority to influence the vote of any other member of the uniformed services or to require any member to march to any polling place or place of voting as proscribed by 18 U.S.C. 592, 18 U.S.C. 593, and 18 U.S.C. 609. This subsection does not, in any way, prohibit free discussion about political issues or candidates for public office as stated in 18 U.S.C. 609.

(2) Polling any member of the uniformed services before or after he or she votes, as proscribed in 18 U.S.C. 596.

(d) The FVAP shall conduct official surveys authorized by 42 U.S.C. 1973ff to report to the President and the Congress on the effectiveness of the assistance provided to eligible voters (including a separate statistical analysis of voter participation and a description of Federal-State cooperation).

(e) DoD personnel involved in assisting in the voter registration or absentee voting process shall use the names of persons applying or declining to register to vote only for voter registration purposes and shall not release such information for any other purpose.

(f) Military or civilian personnel employed in recruitment offices of the Military Services shall be subject to the restrictions outlined in § 233.6(b) of this part.

(g) An installation commander may permit non-partisan voter registration activities on an installation by State and county officials, or groups recognized in accordance with section 501(c)(19) of the Internal Revenue Code, subject to all applicable military installation rules and regulations governing such activities on military installations.

§ 233.5 Responsibilities.

(a) The Under Secretary of Defense for Personnel and Readiness (USD(P&R)) shall:

(1) Execute the responsibilities of the Presidential designee in accordance with DoD Directive 5124.02 (available at http://www.dtic.mil/whs/directives/corres/pdf/512402p.pdf).

(2) Administer the FVAP in accordance with Executive Order 12642, 10 U.S.C. 1566a, 42 U.S.C. 1973gg-5, and 42 U.S.C. 1973ff—1973ff-6.

(3) Coordinate and implement actions that may be necessary to discharge Federal responsibilities assigned in DoD Directive 5124.02, Executive Order 12642, 10 U.S.C. 1566, 42 U.S.C. 1973gg-5, 42 U.S.C. 1973ff—1973ff-6, Section 1604 of Public Law 107-107, “The National Defense Authorization Act for Fiscal Year 2002,” and Section 567 of Public Law 108-375, “The National Defense Authorization Act for Fiscal Year 2005”.

(4) Develop policy and procedures to implement DoD responsibilities under 42 U.S.C. 1973gg-5 (also known as the “National Voter Registration Act (NVRA)”).

(5) Grant or deny any hardship exemption waivers submitted by a State pursuant to 42 U.S.C. 1973ff-1(g) (after consultation with the Attorney General's designee) and inform the State of the results of the waiver request.

(6) Ensure that the Director, Department of Defense Human Resources Activity (DoDHRA) designates a civilian Director of the FVAP, who shall be responsible for all aspects of the FVAP, and shall have the necessary authority to administer that responsibility, as described in § 233.6(a) of this part.

(b) The Director, DoDHRA, under the authority, direction, and control of the USD(P&R), shall:

(1) In coordination with the USD(P&R), designate an office by name for the execution of the FVAP.

(2) Ensure that the Director, FVAP carries out the responsibilities identified in Procedures.

(c) The IG DoD, in addition to the responsibilities in paragraph (d) of this section, shall:

(1) Provide to Congress an independent analysis of and report on the utilization and effectiveness of voting assistance programs, and the level of compliance with voting assistance programs of the Military Departments, in accordance with 10 U.S.C. 1566.

(2) Provide the Director, FVAP, along with the respective senior service representative, with copies of supporting data collected during the reviews and analyses conducted under paragraphs (b)(1) and (2) of this section.

(d) The Chief, National Guard Bureau, in addition to the responsibilities in paragraph (d) of this section shall:

(1) Designate in writing a uniformed officer or a civilian employee of the appropriate grade as the SSVR to manage the voting assistance program within the National Guard.

(2) Designate a SVAO, preferably a civilian employee (GS-12 or higher), to assist the SSVR and who shall be responsible for voting assistance operations within the National Guard.

(3) The Adjutants General of the National Guard of the States and Territories shall inform the State or territory chief election official when National Guard units are mobilized or placed in a Federal status.

(e) The Heads of the DoD Components and the Uniformed Services shall disseminate voting information and assist eligible voters, as required, in their respective organization, following the procedures in § 233.6(b) of this part.

(f) The Combatant Commanders, in addition to the responsibilities in paragraph (d) of this section, shall:

(1) Ensure that deployed forces have access to Federal voting information and assistance, particularly in remote locations. To the extent practicable, provide uniformed services members under their command with access to computers with Internet capability and other necessary resources including, but not limited to, printers and scanners for absentee voting purposes.

(2) Emphasize, within the operational chain of command, the importance that they and the DoD attach to participation by uniformed service members in the Federal, State, and local election process and make every reasonable effort to assist the Military Services in discharging the responsibilities outlined elsewhere in this part.

§ 233.6 Procedures.

(a) FVAP Procedures. The Director, FVAP, shall:

(1) Manage, coordinate, and perform the Presidential designee's responsibilities pursuant to 42 U.S.C. 1973ff.

(3) Encourage and assist States and other U.S. jurisdictions to adopt the mandatory and recommended provisions of 42 U.S.C. 1973ff-1 and ensure they are aware of the requirements of 42 U.S.C. 1973ff.

(4) Establish and maintain contact with State election officials, State legislators, and with other State and local government officials to improve the absentee voting process for the Uniformed and Overseas Citizens Absentee Voting Act (UOCAVA) citizens. Consult with the Defense State Liaison Office which is the DoD office for contact and coordination with Federal, State, and local government entities for legislative and other policy matters involving voting assistance and elections pursuant to 42 U.S.C. 1973ff et seq.

(5) Obtain, from each State, current voter registration and absentee voting information and disseminate it to other Federal Executive departments, agencies, DoD Components and voters qualified to vote, pursuant to 42 U.S.C. 1973ff(b)(5).

(6) Establish and maintain a voting assistance program to assist all eligible voters as covered by 42 U.S.C. 1973ff et seq., and to assist those persons to vote.

(7) Establish and maintain an FVAP Web site that provides:

(i) Information to citizens on the voter registration and absentee voting process.

(ii) Information on the means of electronic transmission of election materials allowed by each State.

(iii) A method to assist citizens in the voter registration process and how to request an absentee ballot.

(iv) A list of State contact information in accordance with 42 U.S.C. 1973ff-1(e)(4).

(v) The ability to print a Standard Form (SF) 186, “Federal Write-In Absentee Ballot,” and a list of all candidates in a Federal election.

(vi) A portal that hosts Service-specific information regarding voting assistance programs, including links to IVA offices; the contact information for voting assistance officers (installation, major command and commissioned units) within the DoD Component; procedures to order voting materials; and links to other Federal and State voting Web sites.

(vii) Absentee ballot data reported under 42 U.S.C. 1973ff(b)(6) and (b)(11) and 42 U.S.C. 1973ff-4A.

(viii) Other information as deemed necessary by Director, FVAP.

(8) Survey U.S. citizens including, but not limited to uniformed services and their dependents as well as overseas U.S. civilians covered by 42 U.S.C. 1973ff et seq., voting assistance officers (VAOs), and election officials to gather necessary statistical information and prepare the reports to the President and the Congress required by 42 U.S.C. 1973ff(6) and 42 U.S.C. 1973ff-4A.

(9) Prescribe the standard oath to be used with any document pursuant to 42 U.S.C. 1973ff(7).

(10) Coordinate with the Military Postal Service Agency, as addressed in DoD 4525.6-M (available at http://www.dtic.mil/whs/directives/corres/pdf/452506m.pdf), to implement measures to ensure a postmark or other proof of mailing date is provided on each absentee ballot collected at any overseas location or vessel at sea, and that voting materials are moved expeditiously to the maximum extent practicable by military postal authorities.

(11) As a component of a comprehensive marketing and voter education initiative, establish a means to inform absent uniformed services members of absentee voting information and resources 90, 60, and 30 days before each Federal election pursuant to 42 U.S.C. 1973ff-2B(a)(2).

(12) Develop standards, working with the U.S. Election Assistance Commission and the Chief State election official of each State, for the States to report data on the number of absentee ballots transmitted and received during a regularly scheduled general election for Federal office pursuant to 42 U.S.C. 1973ff(b)(11). Provide a means to store the collected data and make the data available to the public.

(13) Establish procedures, in consultation with the Attorney General, regarding hardship exemption waivers submitted by a State pursuant to 42 U.S.C. 1973ff-1(g).

(14) Prescribe the required voting program metrics to be used by the DoD Components and uniformed services to be used in evaluating their individual voting assistance programs, and report on compliance with those metrics. To the extent practicable, establish and maintain an online portal to collect and consolidate voting program metrics.

(15) Provide technology programs to assist uniformed service and overseas voters in registering to vote, applying for an absentee ballot, receiving an absentee ballot, and to the extent required by section 1604 of Public Law (Pub. L.) 107-107, as amended by section 567 of Public Law 108-375, returning a voted ballot.

(16) Develop and coordinate with the States the implementation and operational procedures for persons to apply to register to vote at recruitment offices of the Military Services. Assist the Deputy Assistant Secretary of Defense for Military Personnel Policy with the implementation of section 42 U.S.C. 1973gg-5(c) as it applies to recruitment offices within the DoD.

(17) In coordination with the Services, develop multiple types of training materials for use by IVA offices, IVAOs, UVAOs, and recruiters to provide voter registration and absentee ballot assistance and at recruitment offices of the Military Services to provide voter registration assistance. Conduct voting assistance training during even-numbered years worldwide.

(18) Analyze the impact of providing voter registration assistance and make recommendations for improvements in Federal and State procedures, forms, and laws affected by 42 U.S.C. 1973ff et seq.

(19) Maintain multiple lines of support for use by uniformed services and overseas voters, personnel assigned to recruitment offices of the Military Services and State election officials to provide assistance outlined pursuant to 42 U.S.C. 1973ff.

(b) DoD Component and Uniformed Services Procedures. The DoD Components and the uniformed services shall:

(1) Develop written voting-related policies to support all eligible uniformed services personnel and their family members including those in deployed, dispersed, and tenant organizations. Establish the ratio and maximum number of voters who may be represented by a VAO.

(2) Ensure command support at all levels for the FVAP.

(3) Designate in writing a uniformed officer of flag grade or a civilian employee in the Senior Executive Service in each uniformed service as the SSVR to manage the respective Service voting programs.

(4) Designate a SVAO, preferably a civilian employee (General Schedule (GS)-12 or higher), to assist the SSVR and who shall be responsible for voting assistance operations within his or her Service.

(i) If the SVAO is a military member, he or she should be at least of pay grade O-4 (if an officer) or E-8 (if enlisted) and shall be a permanently assigned member within the SSVR's organization.

(ii) The chief or director of each Reserve Component shall designate an SVAO to coordinate with the SSVR and the Director, FVAP to maintain a contingency absentee voting program for the National Guard and Reserve units and personnel who have been activated and deployed.

(5) Establish IVA offices on each military installation and maintain an updated list of IVA offices, including location, address, hours of operation, phone number and email address, published on the Service voting assistance Web site. At the discretion of the installation commander, satellite offices may be established under the primary IVA office.

(i) The IVA office will provide voter assistance to military personnel, their dependents, civilian Federal employees, and all qualified voters who have access to such installation offices. IVA offices shall also serve as voter registration agencies under 42 U.S.C. 1973gg-5(a)(2).

(ii) The IVA office shall be established within the installation headquarters organization reporting directly to the installation commander, even if geographically located in another office.

(iii) The IVA office should be located in a well-advertised, fixed location, consistent throughout the Service, and should be physically co-located with an existing office that receives extensive visits by Service personnel, family members, and DoD civilians. The IVA office shall be staffed during the hours the installation office is open with trained personnel to provide direct assistance in registration and voting procedures, including the assistance required under 42 U.S.C. 1973gg-5(a)(4).

(iv) The IVA office shall:

(A) Be included in the administrative in-processing and out-processing activities required of reporting and detaching personnel.

(B) Ensure that uniformed services members, their voting-age dependents, and overseas DoD civilians are provided proper voting assistance at the IVA office, including the opportunity to update their voter registration information through the submission of a revised SF 76, “Federal Post Card Application (FPCA)” or National Mail Voter Registration Form.

(C) Ensure that voting assistance is provided to all personnel, military and civilian, reporting for duty on the installation, detaching from duty, deploying, and returning from deployment of 6 months or longer.

(1) SF 76s shall be used to notify local election officials of the change of mailing address for absentee ballot delivery purposes.

(2) Uniformed services members who are being released from active duty shall be advised to notify their local election office that they are no longer covered under 42 U.S.C. 1973ff and shall be provided the opportunity to submit a National Mail Voter Registration Form.

(D) Ensure that all small and geographically separated units are provided voting assistance.

(E) Provide written information on voter registration and absentee ballot procedures. This can be met by providing the applicant with the SF 76, SF 186, (if applicable), or the National Mail Voter Registration Form, the attached instructions for those forms, and the State-specific instructions from the Voting Assistance Guide (available at http://www.fvap.gov) for absent uniformed services voters, voting-age dependent voters, and overseas civilians. Citizens may also be provided with all of the necessary resources including, but not limited to, access to a computer system connected to the Internet, a printer, and a scanner to use the FPCA wizard available at the FVAP Web site, www.fvap.gov.

(1) SF 76 and SF 186 (if applicable) shall be provided to absent uniformed services personnel and their family members (within and outside of the United States) and to Federal civilian employees and other U.S. citizens who have access to an IVA office outside the United States.

(2) The National Mail Voter Registration Form shall be provided to Federal civilian employees and other U.S. citizens who have access to the IVA office within the United States, and to uniformed services voters who currently reside in their voting districts.

(F) Provide direct assistance to individuals in completing the forms necessary to register to vote, update their voter registration information, and request absentee ballots.

(G) Collect from the voter and transmit the completed SF 76 or National Mail Voter Registration Form for the applicant, within 5 calendar days, to the appropriate local election office.

(H) Maintain voting program metrics as coordinated with and prescribed by the Director, FVAP and furnish a report, via their SVAO, to the Director, FVAP each calendar quarter or as requested.

(6) Designate VAOs, in writing, at every level of command; assign one VAO on each installation and in each major command to coordinate the programs conducted by subordinate units and tenant commands.

(i) For continuity, individuals assigned as IVAOs should serve for 18 months beginning in October of the year immediately prior to a regularly scheduled general election for Federal offices and concluding in March of the year immediately following a regularly scheduled general election for Federal offices.

(ii) Ensure that VAOs are available and equipped to assist voters for all elections. VAOs shall be provided the time and resources needed to perform their voting assistance duties.

(iii) When uniformed services personnel (including noncommissioned officers) are designated as VAOs this part authorizes them to administer oaths in connection with voter registration and voting.

(7) Designate IVAOs, preferably civilians (GS-12 or higher) with access to the installation commander. If a uniformed services member is assigned as the IVAO, that officer should hold the pay grade of O-4 or higher; however, it is preferable to assign an enthusiastic volunteer who is outside this rank and grade guidance rather than assign a less enthusiastic member who meets the criterion.

(i) The IVAO shall complete FVAP training before assuming the duties of the IVAO.

(ii) The IVAO shall work closely with the IVA office to coordinate the unit-level voting assistance programs implemented on that installation.

(iii) Each IVAO shall notify installation personnel of the last date before a general election for Federal offices by which absentee ballots must be mailed to reasonably be delivered in time to State and local election officials and of general mail delivery deadlines recommended by the Military Postal Service Agency.

(8) Designate and assign, in writing, a UVAO, at the O-2/E-7 level or above, within each unit of 25 or more permanently assigned members. It is preferable to assign an enthusiastic volunteer who is outside this rank and grade guidance rather than assign a less enthusiastic member who meets the criterion.

(i) A UVAO shall complete FVAP training prior to assuming the duties of the UVAO as specified in this rule. Unit commanders shall, to the extent practicable, provide funding to enable their UVAOs to attend in-person training.

(ii) An additional UVAO should be assigned for each additional 50 members above the 25-member base.

(iii) UVAOs shall ensure that all small and geographically separated units are assisted.

(iv) UVAOs may advise and assist the IVA office in fulfilling the voter assistance functions for deploying personnel, personnel returning from deployment, and personnel recording a change of address. However, the individual in charge of the IVA office is responsible to require that UVAOs have fully complied with the voter assistance responsibilities as described in 42 U.S.C. 1973ff.

(9) Require that uniformed services members and their voting-age dependents have ready access to absentee voter registration, ballot request and absentee ballot submission information, deadlines, and recommended mailing dates to meet those deadlines. This information must be available online and in written format for those citizens who do not have access to online documents.

(10) Expeditiously obtain and disseminate to eligible voters, voting information and related materials, such as the Voting Assistance Guide, SF 76, and SF 186.

(11) Provide sufficient registration and ballot request materials to support all elections.

(12) Establish within each military installation and major command a VAO network and communications capability to quickly disseminate voting information throughout the installation or major command. Establish a DoD Component-wide means to communicate effectively with and expeditiously disseminate voting information to Commanders, VAOs, and uniformed services and overseas DoD civilian members of the DoD Component and their voting age dependents. This communication effort should be coordinated with the FVAP.

(13) Develop a DoD Component-wide communications plan to provide information on the absentee voting process (including State registration and absentee ballot deadlines and the effective deadlines for mailing from overseas and remote locations to meet those State deadlines), encourage voting participation, schedule voting communications from Component leaders, and program the distribution of voting materials.

(14) Develop a distribution system to deliver SF 76s directly to all eligible voters either through in-hand delivery or through electronic means.

(15) The delivery of SF 76s shall be accomplished:

(i) By January 15 of each calendar year to eligible voters and, to the extent practicable, their voting-age dependents.

(ii) By July 15 of even-numbered years to eligible voters and, to the extent practicable, voting-age dependents.

(iii) Before graduation and detachment from recruit training. These SF 76s shall be used to notify local election officials of the change of mailing address for absentee ballot delivery purposes.

(16) Require the Inspectors General of the Military Departments to review their voting assistance program annually, and at every level of command, to ensure compliance with 10 U.S.C. 1566a, 42 U.S.C. 1973gg-5, 42 U.S.C. 1973ff—1973ff-6, 18 U.S.C. 592, 18 U.S.C. 609, DoD 8910.1-M (available at http://www.dtic.mil/whs/directives/corres/pdf/891001m.pdf), and DoD 4525.6-M. A copy of this report shall be submitted to the IG DoD along with supporting statistical information to the Director, FVAP, by January 31 of the following year pursuant to 10 U.S.C.

(17) Continually evaluate command voting assistance programs. Program metrics shall be reported to the Director, FVAP, as prescribed by paragraph n. in Enclosure 3.

(18) Establish and maintain a direct link from the DoD Component's Web site to the Web site designated by the Director, FVAP.

(19) Develop comprehensive command-wide voting awareness, assistance programs, and activities in accordance with the requirement of paragraph (15)(i) of this section to annually deliver SF76s by January 15. “Armed Forces Voters Week” will be advertised to encourage voter registration drives.

(20) Establish and maintain a standard email address of the form Vote@(unit).(Service).mil, Vote.(unit)@(Service).mil or similar format to contact all UVAOs within that Service.

(21) Annually train all uniformed service members (including activated National Guard and Reserve personnel) on absentee registration and voting procedures.

(i) All basic training and command courses shall emphasize and advertise voting assistance programs to encourage service members to register and subsequently vote by offering instruction on voting rights and responsibilities and procedures on absentee registration and voting.

(ii) Provide training and voting assistance for units preparing for deployment where voting materials and accessibility to register may be limited due to at-sea or remote area deployment.

(iii) Retain records of training conducted, including dates and attendees, at the unit level for at least 1 calendar year.

(22) Require that all major command, installation, and UVAOs attend an FVAP voting assistance workshop during even-numbered years with elections for Federal offices. If the installation is not scheduled to receive FVAP workshop training, installation and UVAOs should attend training at a nearby installation. VAOs at remote locations can access the FVAP Web site for training. Documentation of VAO training at the installation or base level shall be stored within local personnel records.

(23) To the greatest extent practicable, ensure voters who are eligible to cast absentee ballots on DoD facilities are able to do so in a private and independent manner.

(24) Protect the privacy of the contents of absentee ballots while under DoD control. Voters who vote locally at polling sites should be provided time to vote during working hours.

(25) File an annual after-action report to the Director, FVAP, in the format and manner specified by the Director, FVAP.

(26) Assist the FVAP in conducting official surveys in the manner specified by the Director, FVAP.

(27) Refrain from contacting State and local government officials about voting policy matters. The Director, Defense State Liaison Office, in consultation with the Director, FVAP, shall be the DoD representative for coordination with Federal, State, and local government entities for legislative and other policy matters involving voting assistance and elections pursuant to 42 U.S.C. 1973ff et seq.

(i) IVAOs, major command voting assistance officers, and SVAOs are encouraged to discuss voting policy concerns with FVAP, and may work with FVAP on such issues at the Director, FVAP's request.

(ii) IVAOs, major command voting assistance officers, and SVAOs may contact local election officials to help resolve any specific problem involving voter registration or absentee voting on behalf of the voter, or to engage appropriate local election official assistance for a voter registration drive or similar event on an installation.

(28) Consolidate and provide quarterly statistical information and records on voter registration assistance provided by the UVAOs and the IVA offices in a format prescribed by the Director, FVAP.

(29) Ensure all personnel assigned to transition assistance program offices are informed of the policies in this part and are trained to provide materials educating transitioning personnel on their civilian voting rights and responsibilities. Transition assistance program offices shall work with the Director, FVAP, to provide pre-printed notices that transitioning personnel may use to inform their election offices that they no longer will vote absentee in accordance with the provisions of 42 U.S.C. 1973ff.

(30) Ensure all personnel assigned to recruitment offices are informed of the policies in this part and are trained to provide voter registration assistance. Ensure the recruitment offices of the Military Services:

(i) Provide each prospective enlistee with the National Mail Voter Registration Form, available at http://www.eac.gov/voter/Register_to_Vote, and DD Form 2645, Voter Registration Information Form, available at http://www.dtic.mil/whs/directives/infomgt/forms/forminfo/forminfopage2084.html, unless the applicant, in writing, declines to register to vote.

(ii) Distribute the National Mail Voter Registration Form to each eligible citizen and provide assistance in completing the form unless the applicant refuses such assistance.

(iii) Provide each eligible citizen or prospective enlistee who does not decline to register to vote the same degree of assistance for the completion of the National Mail Voter Registration Form as is provided by the office for the completion of its own forms, e.g., the application for enlistment, unless the person refuses such assistance.

(iv) Transmit all completed registration applications within 5 calendar days to the appropriate State election officials.

(v) Maintain statistical information and records on voter registration assistance provided by recruitment offices in the format prescribed by the Director, FVAP, for a period of two years, in accordance with 42 U.S.C. 1973gg(6)(i).

(31) Ensure that inspections of recruitment offices of the Military Services by the Service Inspectors General are in compliance with this part.

(32) As discussed in DoD 4525.6-M, the Director, Military Postal Service Agency shall:

(i) Implement measures in consultation with the FVAP, to the maximum extent practicable, to ensure that a postmark or other proof of mailing date is provided on each absentee ballot collected at any overseas location or vessel at sea and that voting materials are moved expeditiously, to the maximum extent practicable, by military postal authorities.

(ii) Develop an outreach plan to inform overseas uniformed services voters regarding the ballot collection and delivery service to be implemented prior to each general election for Federal office.

(iii) Establish alternative deadlines for collecting and forwarding absentee ballots from overseas locations as required by 42 U.S.C. 1973ff.

(33) Revise all voting assistance program instructions and procedures to incorporate the provisions of this part.

(c) Executive Department and Agency Procedures. (1) Federal Executive departments and agencies, including, but not limited to, the Department of State, the Department of Commerce, and the Department of Health and Human Services, are encouraged to adopt regulations and procedures that conform to this part to the maximum extent practicable, consistent with their organizational missions. By doing so, the FVAP will be able to assist the Executive departments, agencies, and their voting constituencies to the maximum extent.

(2) The head of each Government department, agency, or other entity shall distribute balloting materials and develop a non-partisan program of information and education for all employees and family members pursuant to 42 U.S.C. 1973ff(c).

(i) The department or agency is responsible for providing voter assistance with assistance available from the FVAP.

(ii) Each department or agency with employees or family members covered by 42 U.S.C. 1973ff shall designate an individual to coordinate and administer a voting assistance program for the department or agency to include, where practicable, the responsibilities in this part. The name, address, and telephone number of this individual shall be provided to the Director, FVAP.

(iii) The Secretary of State shall designate a voting action officer at the Department of State headquarters to oversee the Department's program as well as a U.S. citizen at each U.S. embassy or consulate to assist, to the fullest extent practicable, other U.S. citizens residing outside of the United States who are eligible to vote. The Secretary of State shall provide annually, or as requested by the Director, FVAP, estimates of the numbers of U.S. citizens currently residing in each country with an established embassy.

(iv) Each embassy and consulate should have sufficient quantities of materials to include SF 76s, and SF 186s, needed by U.S. citizens to register and vote. Embassies and consulates will also inform and educate U.S. citizens regarding their right to register and vote, and will publicize voter assistance programs.

(v) The Department of State's voting action officer shall coordinate with the Director, FVAP, in the development and conduct of voting events, programs to inform and educate U.S. citizens outside of the United States, and provision of voting information and resources for assistance.

(vi) Department of State and the Military Service voting action officers shall assist, as requested, embassy and consulate VAOs with post-election surveys of civilians outside of the United States.

Dated: September 12, 2012.
Patricia L. Toppings,
OSD Federal Register Liaison Officer, Department of Defense.

[FR Doc. 2012-22950 Filed 9-17-12; 8:45 am]

BILLING CODE 5001-06-P